DEPARTMENT OF HOMELAND SECURITY

Federal Emergency Management Agency

[Docket ID FEMA-2021-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of July 20, 2021 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Maricopa County, Arizona and Incorporated Areas
Docket No.: FEMA-B-1972
City of Phoenix | Street Transportation Department, 200 West Washington Street, 5th Floor, Phoenix, AZ 85003.
City of Scottsdale | Planning Records, 7447 East Indian School Road, Suite 100, Scottsdale, AZ 85251.
Unincorporated Areas of Maricopa County | Flood Control District of Maricopa County, 2801 West Durango Street, Phoenix, AZ 85009.
Kane County, Illinois and Incorporated Areas
Docket No.: FEMA-B-1720
City of St. Charles | Public Works Engineering Division, 1405 South 7th Avenue, St. Charles, IL 60174.
Unincorporated Areas of Kane County | Kane County Government Center, Building A, Water Resources Department, 719 Batavia Avenue, Geneva, IL 60134.
Linn County, Iowa and Incorporated Areas
Docket No.: FEMA-B-1979
City of Alburnett | City Hall, 102 East 1st Street, Alburnett, IA 52202.
City of Bertram | City Hall, 50 Angle Street, Bertram, IA 52403.
City of Cedar Rapids | City Hall, 101 1st Street Southeast, Cedar Rapids, IA 52401.
City of Center Point | City Hall, 200 Franklin Street, Center Point, IA 52213.
City of Central City | City Hall, 137 4th Street North, Central City, IA 52214.
City of Coggon | City Hall, 118 East Main Street, Coggon, IA 52218.
City of Ely | City Hall, 1570 Rowley Street, Ely, IA 52227.
City of Fairfax | City Hall, 300 80th Street Court, Fairfax, IA 52228.
City of Hiawatha | City Hall, 101 Emmons Street, Hiawatha, IA 52233.
City of Lisbon | City Clerk Office, 115 North Washington Street, Lisbon, IA 52253.
City of Marion | City Hall, 1225 6th Avenue, Suite 200, Marion, IA 52302.
City of Mount Vernon | City Hall, 213 1st Street Northwest, Mount Vernon, IA 52314.
City of Palo | City Hall, 2800 Hollenbeck Road, Palo, IA 52324.
City of Robins | City Hall, 265 South 2nd Street, Robins, IA 52328.
City of Springville | City Hall, 304 Broadway, Springville, IA 52336.
City of Walford | City Hall, 120 5th Street North, Walford, IA 52351.
City of Walker | City Hall, 204 Greene Street, Walker, IA 52352.
Unincorporated Areas of Linn County | Linn County Planning & Development Department, 935 2nd Street Southwest, Cedar Rapids, IA 52404.
Claiborne County, Mississippi and Incorporated Areas
Docket No.: FEMA-B-1936
Unincorporated Areas of Claiborne County | Claiborne County William “Matt” Ross Administration Building, 510 Market Street, Port Gibson, MS 39150.
Hinds County, Mississippi and Incorporated Areas
Docket No.: FEMA-B-1936
City of Byram | Public Works Building, 550 Executive Boulevard, Byram, MS 39272.
City of Clinton | Municipal Annex Building, 961 Highway 80 East, Clinton, MS 39056.
City of Jackson | Warren Hood Building, 200 South President Street, Suite 424, Jackson, MS 39201.
Unincorporated Areas of Hinds County | Hinds County Annex Building, 127 West Main Street, Raymond, MS 39154.
Scott County, Mississippi and Incorporated Areas
Docket No.: FEMA-B-1936
Unincorporated Areas of Scott County | Scott County Chancery Clerk's Office, 100 East Main Street, Forest, MS 39074.
Smith County, Mississippi and Incorporated Areas
Docket No.: FEMA-B-1936
Unincorporated Areas of Smith County | Smith County Emergency Management Building, 143 Main Street, Raleigh, MS 39153.

[FR Doc. 2021-05224 Filed 3-11-21; 8:45 am]

BILLING CODE 9110-12-P